DEPARTMENT OF COMMERCE

Foreign-Trade Zones Board

[B-19-2023]

Foreign-Trade Zone (FTZ) 138, Notification of Proposed Production Activity; Intel Corporation; (Semiconductor Products); New Albany, Ohio

Intel Corporation submitted a notification of proposed production activity to the FTZ Board (the Board) for its facility in New Albany, Ohio, within Subzone 138I. The notification conforming to the requirements of the Board's regulations (15 CFR 400.22) was received on March 2, 2023.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include semiconductor transducers, electronic integrated circuit processors and amplifiers, electronic memory circuits, and electronic integrated circuits (duty rates are duty-free).

The proposed foreign-status materials and components include: methane (liquid; gas); chlorine; oxygen; hydrogen; helium; xenon; nitrogen; hydrochloric acid; hydrogen chloride; nitric acid; phosphoric acid; phosphoric acid based solution; hydrofluoric acid (also known as hydrogen fluoride); silicate reagent; hydrogen bromide; carbon dioxide; silica; carbon monoxide; dinitrogen monoxide (also known as nitrous oxide); nitric oxide; sulfur dioxide; boron trichloride; dichlorosilane; silane; silicon tetrachloride; chlorine trifluoride; diiodosilane; nitrogen trifluoride; anhydrous ammonia; ammonia; potassium hydroxide; potassium hydroxide based slurry; sulfur hexafluoride gas; tungsten hexafluoride; potassium hydroxide based slurry; sulfur hexafluoride gas; tungsten hexafluoride; titanium tetrachloride; carbonyl sulfide; copper sulphate solution; potassium chloride electrode filling solution; cerium hydroxide based slurry; hydrogen peroxide; disilane; n-octane; ethyne (also known as acetylene); hydrocarbon solution; trifluoromethane; tetrafluoromethane (also known as perfluoromethane); hexafluoro-1,3-butadiene; octafluorocyclobutane; isopropyl alcohol; tert-butyl alcohol; hexachlorodisilane; 2-heptanone; cyclohexanone; cyclopentanone; butyl acetate; propylene glycol monomethyl ether acetate (PGMEA); pentakis(dimethylamido)tantalum powder; tetrakis(methylethylamino)zirconium; N-methylethanolamine solution; tetramethylammonium hydroxide developer solution; bis(diethylamino)silane; hexamethyldisilazane photoresist; N,N-bis(1-methylethyl)silanamine; tetramethylsilane; trimethylaluminum; trimethylsilane; butyrolactone; potassium chloride based solution; methyl 2-hydroxyisobutyrate based photoresist solution; PGMEA based photoresist solution; PGMEA based undercoat material; polyglycerol polymer based slurry; surfactant solution; butoxyethanol based wafer cleaning solution; ethanolamine based wafer cleaning solution; 1-hydroxyethane-1,1-diphosphonic acid based wafer cleaning solution; bolt release lubrication; acetic acid based slurry; ammonium hydroxide based slurry; amorphous silica based slurry; cerium dioxide based slurry; potassium hydroxide based slurry; silica based slurry; tetraethylammonium hydroxide based slurry; silica and phosphoric acid based slurry; various mixtures (photoresist chemicals; diborane and argon; diborane and hydrogen; fluorine and nitrogen; helium and nitrogen; helium based compressed gas; hydrogen and argon; hydrogen and helium; hydrogen and nitrogen; methane and argon; oxygen and helium; xenon and hydrogen); soldering, brazing, or welding powder; triethanolamine based solution; dimethyl sulfoxide based cleaning solvent; propylene glycol monomethyl ether based solvent; tetramethylammonium hydroxide based cleaning solvent; semi-processed semiconductor wafers; 4-morpholinecarbaldehyde based solution; acetic acid based solution; ammonium fluoride based solution; benzotriazole based cleaning solution; cobalt based solution; ethylene glycol based solution; isobutyl propionate based developer solution; nitric acid based solution; phosphoric acid based solution; tetrahydrothiophene-1,1-dioxide based solution; anti-reflective photoresist chemical coating; melamine resin; ion exchangers; plastic components (cases; packing; bottles); ethylene bags; self-adhesive labels; quartz reactor tubes; copper anode discs; filtering machinery for liquids; permanent metal magnets; central processing units; microprocessors; electronic memory circuits; sputtering targets (cobalt; copper; tantalum; titanium); electrical conductors for a voltage not exceeding 1,000 V (fitted with connectors and used in telecommunication; not used in telecommunication); electrical conductors for a voltage not exceeding 80 V; insulated electrical conductors for a voltage not exceeding 1,000 V; copper electrical conductors for a voltage not exceeding 80 V; fitted electrical conductors for a voltage exceeding 1,000 V; and, electrical conductors for a voltage exceeding 1,000 V (duty rate ranges from duty-free to 6.5%). The request indicates that certain materials/components are subject to duties under section 232 of the Trade Expansion Act of 1962 (section 232) or section 301 of the Trade Act of 1974 (section 301), depending on the country of origin. The applicable section 232 and section 301 decisions require subject merchandise to be admitted to FTZs in privileged foreign status (19 CFR 146.41).

Public comment is invited from interested parties. Submissions shall be addressed to the Board's Executive Secretary and sent to: ftz@trade.gov. The closing period for their receipt is April 19, 2023.

A copy of the notification will be available for public inspection in the “Online FTZ Information System” section of the Board's website.

For further information, contact Juanita Chen at juanita.chen@trade.gov.

Dated: March 7, 2023.
Elizabeth Whiteman,
Acting Executive Secretary.

[FR Doc. 2023-04964 Filed 3-9-23; 8:45 am]

BILLING CODE 3510-DS-P